DEPARTMENT OF COMMERCE

National Oceanic and Atmospheric Administration

Proposed Information Collection; Comment Request; Highly Migratory Species Dealer Reporting Family of Forms

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 13, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Rick Pearson, Atlantic Highly Migratory Species Management Division, National Marine Fisheries Service, 263 13th Avenue South, Saint Petersburg, FL 33701, (813) 486-2037 or Rick.A.Pearson@noaa.gov.

SUPPLEMENTARY INFORMATION:

I. Abstract

This request is for extension of a currently approved information collection,

Under the provisions of the Magnuson-Stevens Fishery Conservation and Management Act (16 U.S.C. 1801 et seq.), the National Marine Fisheries Service (NMFS) is responsible for management of the Nation's marine fisheries. NMFS must also promulgate regulations, as necessary and appropriate, to carry out obligations the United States (U.S.) undertakes internationally regarding tuna management through the Atlantic Tunas Convention Act (16 U.S.C. 971 et seq.).

This collection serves as a family of forms for Atlantic highly migratory species (HMS) dealer reporting, including purchases of HMS from domestic fishermen, and the import, export, and/or re-export of HMS, including federally managed tunas, sharks, and swordfish.

Transactions covered under this collection include purchases of Atlantic HMS from domestic fishermen; and the import/export of all bluefin tuna (BFT), frozen bigeye tuna (BET), southern bluefin tuna (SBT) or swordfish (SWO), regardless of geographic area of origin. This information is used to monitor the harvest of domestic fisheries, and/or track international trade of internationally managed species.

The domestic dealer reporting covered by this collection includes weekly electronic landing reports and negative reports (e.g., reports of no activity) of Atlantic SWO, sharks, BET, albacore, yellowfin, and skipjack tunas (collectively referred to as BAYS tunas), and biweekly and daily landing reports for BFT, including tagging of individual fish. Also, because of the recent development of an individual bluefin quota (IBQ) management system (RIN 0648-BC09), electronic entry of BFT landing card data is required for Atlantic BFT purchased from Longline and Purse seine category vessels. NMFS intends to consider integrating the data fields that have been collected on the Atlantic BFT Biweekly Dealer Report into the electronic system. However, at this time, dealers must submit to NMFS both electronic and faxed versions of BFT landing cards for purse seine and pelagic longline vessels.

International trade tracking programs are required by both the International Commission for the Conservation of Atlantic Tunas (ICCAT) and the Inter-American Tropical Tuna Commission (IATTC) to account for all international trade of covered species. The U.S. is a member of ICCAT and required by ATCA to promulgate regulations as necessary and appropriate to implement ICCAT recommendations. These programs require that a statistical document (SD) or catch document (CD) accompany each export from and import to a member nation, and that a re-export certificate (RXC) accompany each re-export. The international trade reporting requirements covered by this collection include implementation of CD, SD, and RXC trade tracking programs for BFT, frozen BET, and SWO. U.S. regulations implementing ICCAT SD and CD programs require SDs and CDs for international transactions of the covered species from all ocean areas, so Pacific imports and exports must also be accompanied by SDs and CDs. Since there are SD programs in place under other international conventions (e.g., the Indian Ocean Tuna Commission), a SD from another program may be used to satisfy the SD requirement for imports into the United States.

Dealers who internationally trade SBT are required to participate in a trade tracking program to ensure that imported Atlantic and Pacific BFT will not be intentionally mislabeled as “southern bluefin” to circumvent reporting requirements. This action is authorized under ATCA, which provides for the promulgation of regulations as may be necessary and appropriate to carry out ICCAT recommendations.

In addition to SD, CD, and RXC requirements, this collection includes biweekly reports to complement trade tracking SDs by summarizing SD data and collecting additional economic information.

II. Method of Collection

Methods of submission include electronic, mail, fax and tagging of fish.

III. Data

OMB Control Number: 0648-0040.

Form Number(s): None.

Type of Review: Regular submission (request for extension of a currently approved information collection).

Affected Public: Business or other for-profit organizations.

Estimated Number of Respondents: 7,061.

Estimated Time per Response: 5 minutes each for CD, SD, and RXC certificates; 15 minutes for CD/SD/RXC validation by government official; 120 minutes for authorization of non-governmental CD/SD/RXC validation; 2 minutes for daily Atlantic BFT landing reports; 3 minutes for daily Atlantic BFT landing reports from pelagic longline and purse seine vessels; 1 minute for Atlantic BFT tagging; 15 minutes for biweekly Atlantic BFT dealer landing reports; 15 minutes for HMS international trade biweekly reports; 15 minutes for weekly electronic HMS dealer landing reports (e-dealer); 5 minutes for negative weekly electronic HMS dealer landing reports (e-dealer); 15 minutes for voluntary fishing vessel and catch forms; 2 minutes for provision of HMS dealer email address.

Estimated Total Annual Burden Hours: 18,700.

Estimated Total Annual Cost to Public: $154,155.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 4, 2015.
Glenna Mickelson,
Management Analyst, Office of the Chief Information Officer.

[FR Doc. 2015-02583 Filed 2-9-15; 8:45 am]

BILLING CODE 3510-22-P